DEPARTMENT OF TRANSPORTATION

Surface Transportation Board

[STB Finance Docket No. 34976]

BNSF Railway Company—Lease and Operation Exemption—Interlocker Plant of the Illinois Central Railroad Company

AGENCY: Surface Transportation Board.

ACTION: Notice of exemption.

SUMMARY: Under 49 U.S.C. 10502, the Board is granting a petition for exemption from the prior approval requirements of 49 U.S.C. 11323 et seq., for BNSF Railway Company, a Class I rail carrier, to lease and operate an interlocker plant and underlying land owned by the Illinois Central Railroad Company (CN), a Class I rail carrier. The interlocker plant, which is situated at or near BNSF's Corwith Yard in the City of Chicago, Cook County, IL, includes all signal appliances and structures thereon and the tower facility, but excludes the tracks, track appurtenances, turnouts and derails of CN and BNSF. The interlocker plant is bounded by: (i) The opposing home signals on the BNSF Joliet, IL-Chicago main line; (ii) the opposing home signals on the CN Joliet-Chicago main line; and (iii) the opposing home signals on the BNSF Joliet-Chicago main line and the BNSF Wye.

DATES: The exemption will be effective on March 5, 2007. Petitions to reopen must be filed by March 15, 2007.

ADDRESSES: An original and 10 copies of all pleadings referring to STB Finance Docket No. 34976 must be filed with the Surface Transportation Board, 1925 K Street, NW., Washington, DC 20423-0001. In addition, one copy of all pleadings must be served on petitioner's representative: Sidney L. Strickland, Jr., 3050 K Street, NW., Suite 101, Washington, DC 20007.

FOR FURTHER INFORMATION CONTACT: Joseph H. Dettmar, (202) 565-1609. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: February 21, 2007.
By the Board, Chairman Nottingham, Vice Chairman Buttrey, and Commissioner Mulvey.
Vernon A. Williams,
Secretary.

[FR Doc. E7-3471 Filed 2-27-07; 8:45 am]

BILLING CODE 4915-01-P